DEPARTMENT OF ENERGY

Office of Energy Efficiency and Renewable Energy

Hydrogen and Fuel Cell Technical Advisory Committee (HTAC)

AGENCY: Department of Energy.

ACTION: Notice of open meeting.

SUMMARY: The Hydrogen and Fuel Cell Technical Advisory Committee (HTAC) was established under section 807 of the Energy Policy Act of 2005 (EPACT), Public Law 109-58; 119 Stat. 849. The Federal Advisory Committee Act, Public Law 92-463, 86 Stat. 770, requires that public notice of these meetings be announced in the Federal Register. To attend the meeting and/or to make oral statements during the public comment period, please e-mail: HTAC.Committee@ee.doe.gov at least 5 business days before the meeting.

DATES: Tuesday, July 31, 2007, from 9 a.m.-6 p.m. and Wednesday, August 1, 2007 from 9 a.m.-12 p.m.

ADDRESSES: Crystal City Marriott, 1999 Jefferson-Davis Highway, Arlington, Virginia 22202.

FOR FURTHER INFORMATION CONTACT: HTAC.Committee@ee.doe.gov.

SUPPLEMENTARY INFORMATION:

Purpose of the Meeting: To prepare biennial report to be completed in October 2007 focusing on the EPACT Section 804 Plan, also known as the Hydrogen Posture Plan.

Tentative Agenda (Subject to change; updates will be posted on: http://hydrogen.energy.gov and copies of the final agenda will be available the date of the meeting): The following items will be covered on the agenda:

• Input from HTAC on Suggested Focus Areas for the Interagency Task Force.

• Briefing on the Well-to-Wheels Analysis, Appendix B of Hydrogen Posture Plan.

• Update on Restructuring of HELP.

• Members' Preparation of the Posture Plan Review Report.

• Next Steps.

Public Participation: In keeping with procedures, members of the public are welcome to observe the business of the meeting of HTAC and to make oral statements during the specified period for public comment. The public comment period will take place between 11 a.m. and 12 noon on August 1, 2007. To attend the meeting and/or to make oral statements regarding any of the items on the agenda, e-mail: HTAC.Committee@ee.doe.gov at least 5 business days before the meeting. (Please indicate if you will be attending the meeting both days or just one day.) Members of the public will be heard in the order in which they sign up for the Public Comment Period. Oral comments should be limited to two minutes in length. Reasonable provision will be made to include the scheduled oral statements on the agenda. The Chair of the Committee will make every effort to hear the views of all interested parties and to facilitate the orderly conduct of business. If you would like to file a written statement with the Committee, you may do so either two days before or after the meeting (electronic and hard copy).

Minutes: The minutes of the meeting will be available for public review at: http://hydrogen.energy.gov.

Issued at Washington, DC, on July 11, 2007.
Rachel Samuel,
Deputy Committee Management Officer.

[FR Doc. E7-13770 Filed 7-16-07; 8:45 am]

BILLING CODE 6450-01-P